DEPARTMENT OF ENERGY

Federal Energy Regulatory Commission

Combined Notice of Filings #2

Take notice that the Commission received the following electric rate filings:

Docket Numbers: ER06-554-000.

Applicants: Virginia Electric and Power Company.

Description: Informational Filing and Motion for Extension of Time of Virginia Electric and Power Company.

Filed Date: 8/12/15.

Accession Number: 20150812-5182

Comments Due: 5 p.m. ET 7/6/16.

Docket Numbers: ER15-767-002.

Applicants: Midcontinent Independent System Operator, Inc.

Description: Report Filing: 2016-06-15_White Pine 2 Refund Report Supplement to be effective N/A.

Filed Date: 6/15/16.

Accession Number: 20160615-5026.

Comments Due: 5 p.m. ET 7/6/16.

Docket Numbers: ER16-1936-000.

Applicants: Pacific Gas and Electric Company.

Description: § 205(d) Rate Filing: City of Gridley Work Performance Agreement to be effective 7/1/2016.

Filed Date: 6/15/16.

Accession Number: 20160615-5099.

Comments Due: 5 p.m. ET 7/6/16.

Docket Numbers: ER16-1937-000.

Applicants: Wisconsin Power and Light Company.

Description: § 205(d) Rate Filing: Normal CFA filing to be effective 9/1/2010.

Filed Date: 6/15/16.

Accession Number: 20160615-5103.

Comments Due: 5 p.m. ET 7/6/16.

Docket Numbers: ER16-1938-000.

Applicants: Wisconsin Power and Light Company.

Description: § 205(d) Rate Filing: Normal PSA filing to be effective 9/1/2010.

Filed Date: 6/15/16.

Accession Number: 20160615-5104.

Comments Due: 5 p.m. ET 7/6/16.

Docket Numbers: ER16-1939-000.

Applicants: 4C Acquisition, LLC.

Description: Baseline eTariff Filing: Baseline Master Tariff Filing—Rate Schedules to be effective 8/15/2016.

Filed Date: 6/15/16.

Accession Number: 20160615-5106.

Comments Due: 5 p.m. ET 7/6/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 15, 2016.
Kimberly D. Bose,
Secretary.

[FR Doc. 2016-14601 Filed 6-20-16; 8:45 am]

BILLING CODE 6717-01-P